CORPORATION FOR NATIONAL AND COMMUNITY SERVICE

Information Collection; Submission for OMB Review, Comment Request

AGENCY: Corporation for National and Community Service.

ACTION: Notice.

SUMMARY: The Corporation for National and Community Service (hereinafter the “Corporation”), has submitted a public information collection request (ICR) entitled the AmeriCorps NCCC Service Project Application to the Office of Management and Budget (OMB) for review and approval in accordance with the Paperwork Reduction Act of 1995, Public Law 104-13, (44 U.S.C. Chapter 35). Copies of this ICR, with applicable supporting documentation, may be obtained by calling the Corporation for National and Community Service, Mrs. Kelly DeGraff (202) 606-6817. Individuals who use a telecommunications device for the deaf (TTY-TDD) may call (202) 565-2799 between 8:30 a.m. and 5 p.m. eastern time, Monday through Friday.

ADDRESSES: Comments may be submitted, identified by the title of the information collection activity, to the Office of Information and Regulatory Affairs, Attn: Ms. Sharon Mar, OMB Desk Officer for the Corporation for National and Community Service, by any of the following two methods within 30 days from the date of publication in this Federal Register:

(1) By fax to: (202) 395-6974, Attention: Ms. Sharon Mar, OMB Desk Officer for the Corporation for National and Community Service; and

(2) Electronically by e-mail to: smar@omb.eop.gov.

SUPPLEMENTARY INFORMATION: The OMB is particularly interested in comments which:

• Evaluate whether the proposed collection of information is necessary for the proper performance of the functions of the Corporation, including whether the information will have practical utility;

• Evaluate the accuracy of the agency's estimate of the burden of the proposed collection of information, including the validity of the methodology and assumptions used;

• Propose ways to enhance the quality, utility, and clarity of the information to be collected; and

• Propose ways to minimize the burden of the collection of information on those who are to respond, including through the use of appropriate automated, electronic, mechanical, or other technological collection techniques or other forms of information technology, e.g., permitting electronic submissions of responses.

Comments

A 60-day public comment Notice was published in the Federal Register on October 16, 2009. This comment period ended December 16. No public comments were received from this Notice.

Description: The AmeriCorps NCCC (National Civilian Community Corps) is a full-time, residential, national service program that combines the best practices of civilian service with the best aspects of military service. The mission is to strengthen communities and develop leaders through team-based national and community service. Each year, hundreds of young adults serve as NCCC members. Based at campuses in communities in several states, teams take on projects throughout their regions. Members help communities meet needs in the areas of natural and other disasters, infrastructure improvement, environmental stewardship and conservation, energy conservation, and urban and rural development.Teams are available to help community and faith-based organizations, national nonprofits, schools, local municipalities, national and state parks, and Indian tribes. Members tutor students, construct and rehabilitate low-income housing, build and repair trails, help citizens prepare for and respond to natural and other disasters, lead and manage community volunteers, and address other local needs. Service projects typically last from six to eight weeks. Because members are trained in disaster services and wild land fire fighting, they can be reassigned on short notice to support disaster relief operations.

Type of Review: Renewal.

Agency: Corporation for National and Community Service.

Title: AmeriCorps NCCC Service project Application.

OMB Number: 3045-0010.

Agency Number: None.

Affected Public: Current/prospective AmeriCorps NCCC Project Sponsors.

Total Respondents: 1200 annually.

Frequency: Rolling application process.

Average Time per Response: Averages 7.5 hours.

Estimated Total Burden Hours: 9000 hours.

Total Burden Cost (capital/startup): None.

Total Burden Cost (operating/maintenance): None.

Dated: December 17, 2009.
Mikel Herrington,
Acting Director, AmeriCorps National Civilian Community Corps.

[FR Doc. E9-30558 Filed 12-23-09; 8:45 am]

BILLING CODE 6050-$$-P